DEPARTMENT OF ENERGY

Federal Energy Regulatory Commission

18 CFR Chapter I

[Docket No. AD12-6-000]

Retrospective Analysis of Existing Rules: Notice of Staff Memorandum

SUMMARY: Take notice that the Commission staff is issuing a memorandum setting forth certain minor revisions to the Commission's Natural Gas Pipeline regulations that may be appropriate to remove reporting requirements that may no longer serve their intended purpose. The memorandum was issued pursuant to the Nov. 8, 2011 Plan for Retrospective Analysis of Existing Rules prepared in response to Executive Order 13579, which requested independent regulatory agencies issue plans for periodic retrospective analysis of their existing regulations.

The Staff Memorandum is being placed in the record in the above-referenced administrative docket. The Staff Memorandum will also be available on the Commission's Web site at http://www.ferc.gov.

DATES: Comments on the Staff Memorandum should be filed by November 29, 2012.

ADDRESSES: The Commission encourages electronic submission of comments in lieu of paper using the “eFiling” link at http://www.ferc.gov. Persons unable to file electronically should submit an original of the comment to the Federal Energy Regulatory Commission, 888 First Street NE., Washington, DC 20426.

All filings in this docket are accessible on-line at http://www.ferc.gov, using the “eLibrary” link. There is an “eSubscription” link on the Web site that enables subscribers to receive email notification when a document is added to a subscribed docket. For assistance with any FERC Online service, please email FERCOnlineSupport@ferc.gov, or call (866) 208-3676 (toll free). For TTY, call (202) 502-8659.

FOR FURTHER INFORMATION CONTACT: Christy Walsh, Office of the General Counsel, Federal Energy Regulatory Commission, 888 First Street NE., Washington, DC 20426, 202-502-6523, Christy.Walsh@ferc.gov.

Dated: October 18, 2012.
Kimberly D. Bose,
Secretary.

[FR Doc. 2012-26439 Filed 10-29-12; 8:45 am]

BILLING CODE 6717-01-P